DEPARTMENT OF TRANSPORTATION

Federal Aviation Administration

14 CFR Part 39

[Docket No. FAA-2005-23145; Directorate Identifier 2000-NM-215-AD]

RIN 2120-AA64

Airworthiness Directives; Empresa Brasileira de Aeronautica S.A. (EMBRAER) Model EMB-145, -145ER, -145MR, -145LR, -145XR, -145MP, and -145EP Airplanes

AGENCY: Federal Aviation Administration (FAA), Department of Transportation (DOT).

ACTION: Notice of proposed rulemaking (NPRM).

SUMMARY: The FAA proposes to supersede an existing airworthiness directive (AD) that applies to all EMBRAER Model EMB-145, -145ER, -145MR, -145LR, -145XR, -145MP, and -145EP airplanes. The existing AD currently requires repetitive inspections to detect cracking or failure of the rod ends of the aileron power control actuator (PCA), and corrective actions if necessary. This proposed AD would require the same repetitive inspections of additional parts at new inspection intervals for certain airplanes; provide new corrective actions; and provide an optional terminating action for the proposed requirements. This proposed AD results from the issuance of mandatory continuing airworthiness information by the Brazilian airworthiness authority. We are proposing this AD to detect and correct cracking or breaking of the rod ends and connecting fittings of the aileron PCA, which could result in reduced controllability of the airplane.

DATES: We must receive comments on this proposed AD by January 6, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed in the ADDRESSES section. Include the docket number “Docket No. FAA-2005-23145; Directorate Identifier 2000-NM-215-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On March 16, 1999, we issued AD 99-05-04, amendment 39-11087 (64 FR 13892, March 23, 1999), for all EMBRAER Model EMB-145, -145ER, -145MR, -145LR, -145XR, -145MP, and -145EP airplanes. That AD requires repetitive inspections to detect cracking or failure of the rod ends of the aileron power control actuator (PCA), and corrective actions if necessary. That AD resulted from the issuance of mandatory continuing airworthiness information by the Brazilian civil aviation authority, the Departmento de Aviacao Civil (DAC). We issued that AD to detect and correct cracking or failure of the rod ends of the aileron PCA, which could result in reduced controllability of the airplane.

Actions Since Existing AD Was Issued

Since we issued AD 99-05-04, the DAC notified us that it has received additional reports of broken rod ends of the aileron PCA, involving part numbers (P/N) on which AD 99-05-04 did not apply. The rod ends were broken either at the aileron or at the wing side of the PCA. More recently, there have been reports of cracking in the aileron PCA fittings at the wing side. Failure/breaking of the aileron PCA rod ends or connecting fittings, if not corrected, could result in reduced controllability of the airplane.

Relevant Service Information

EMBRAER has issued the following service documents:

1. Service Bulletin 145-27-0054, Change 03, dated March 30, 2000; and Service Bulletin 145-27-0054, Change 04, dated February 14, 2005. For PCAs having certain P/Ns, these service bulletins describe procedures for repetitive visual inspections for cracking or failure of the aileron PCA rod ends and connecting fittings at the aileron connection points for the wing structure. Among other things, these service bulletins also describe procedures for corrective actions that include replacing PCAs that have cracked or failed rod ends with new PCAs, replacing cracked or failed fittings with new reinforced fittings, and replacing any aileron having any discrepancy found during the described inspections with a new or serviceable aileron.

2. Service Bulletin 145-57-0019, Change 02, dated May 3, 2001; and Service Bulletin 145-57-0019, Change 03, dated February 11, 2004. These service bulletins describe procedures for replacing all PCA connecting fittings with new, redesigned, and reinforced fittings in the half-wings, among other actions. EMBRAER recommends that these service bulletins be done at the same time as the actions in EMBRAER Service Bulletin 145-27-0061 and in EMBRAER Service Bulletin 145-27-0062 (both described below).

3. Service Bulletin 145-27-0061, Change 02, dated September 12, 2000; Service Bulletin 145-27-0061, Change 03, dated March 14, 2001; and Service Bulletin 145-27-0061, Revision 04, dated August 11, 2004. These service bulletins describe procedures for reinforcing the aileron PCA fittings and reidentifying the aileron. EMBRAER recommends that these service bulletins be done at the same time as the actions in EMBRAER Service Bulletins 145-57-0019 and 145-27-0062.

4. Service Bulletin 145-27-0062, Revision 03, dated December 11, 2002; and Service Bulletin 145-27-0062, Revision 04, dated March 8, 2004. For PCAs with certain P/Ns, these service bulletins describe procedures for replacing the aileron PCAs with new, improved aileron PCAs, among other actions. EMBRAER recommends that the actions in EMBRAER Service Bulletins 145-57-0019 and 145-27-0061 be done before the actions in these service bulletins. These service bulletins also specify that operators send the replaced PCAs to the parts manufacturer.

5. Service Bulletin 145-27-0063, dated March 30, 2000; Service Bulletin 145-27-0063, Change 01, dated October 2, 2000; Service Bulletin 145-27-0063, Change 02, dated March 22, 2002; Service Bulletin 145-27-0063, Change 03, dated May 27, 2004; Service Bulletin 145-27-0063, Revision 04, dated October 13, 2004; and Service Bulletin 145-27-0063, Revision 05, dated March 16, 2005. These service bulletins describe procedures for installing an aileron damper and modifying the hydraulic system, among other actions.

6. Subtask 27-12-01-212-002-A00 of the EMBRAER EMB-145 Aircraft Maintenance Manual. This subtask provides procedures for inspecting the aileron PCA rod ends and fitting lugs.

The DAC mandated the service information and issued Brazilian airworthiness directive 1999-02-01R6, dated June 21, 2004, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that AD action is necessary for airplanes of this type design that are certificated for operation in the United States.

This proposed AD would supersede AD 99-05-04 and would continue to require repetitive inspections to detect cracking or failure of the rod ends of the aileron PCA, and corrective actions if necessary. This proposed AD would also:

1. Require the same repetitive inspections of additional P/Ns at new inspection intervals for certain airplanes;

2. Provide new corrective actions;

3. Require use of a new revision of the previously required service bulletin; and

4. Provide an optional terminating action for the proposed requirements.

The proposed AD would require you to use the service information described previously to perform these actions.

Differences Between the Proposed AD and the Brazilian Airworthiness Directive

The Brazilian airworthiness directive does not give a compliance time for the initial inspection of the PCA rod ends and fittings. We would require that inspection to be done at the applicable time specified in the following table, “Compliance Times for Initial Inspection.” In developing an appropriate compliance time for this inspection, we considered the manufacturer's recommendation, the degree of urgency associated with the subject unsafe condition, the average utilization of the affected fleet, and the time necessary to perform the inspection (1 hour). We also considered that the referenced service bulletin (EMBRAER Service Bulletin 145-27-0054, Change 03, dated March 30, 2000), which contains the procedures for accomplishing the required inspection, has been available to all operators of the subject EMBRAER airplanes since March 2000. (EMBRAER Service Bulletin 145-27-0054, Change 03, was revised on February 14, 2005, to add two airplanes to the effectivity; we understand that the actions specified in the service bulletin have been accomplished on those two airplanes.) In light of all of these factors, we find that the initial inspection must be accomplished at the applicable time specified in the table below, which represents an appropriate interval of time allowable for affected airplanes to continue to operate without compromising safety.

Table.—Compliance Times for Initial Inspection
For airplanes that have PCAs with these part numbers (P/N)— | Do the initial inspection—
394900-1003 or 394900-1005 | Within 3 days after the effective date of this AD.
394900-1007 | Within 14 days after the effective date of this AD.
418800-1001, 418800-1003, 418800-9003, 418800-1005, 418800-9005, 418800-1007, or 418800-9007; and that have new reinforced PCA fittings installed in accordance with paragraph (k) or (l) of this AD | Within 500 flight hours after the effective date of this AD.

The Brazilian airworthiness directive also does not give a compliance time for replacing cracked or failed PCA fittings or rod ends. This proposed AD would require replacing any cracked or failed part before further flight.

In addition, the Brazilian airworthiness directive does not specify what operators should do when no cracked or failed aileron PCA rod ends or connecting fittings are found. This AD would require the inspection to be repeated at the intervals specified in the following table.

Table.—Repeat Inspection Intervals
For airplanes that have PCAs with these part numbers (P/N)— | Repeat the inspection—
394900-1003 or 394900-1005 | At intervals not to exceed 25 flight hours or 3 days, whichever occurs later.
394900-1007 | At intervals not to exceed 100 flight hours or 14 days, whichever occurs later.
418800-1001, 418800-1003, 418800-9003, 418800-1005, 418800-9005, 418800-1007, or 418800-9007; and that have new reinforced PCA fittings installed in accordance with paragraph (j) or (k) of this AD | At intervals not to exced 500 flight hours.

These differences have been coordinated with the DAC and they are in agreement.

Change to Existing AD

This proposed AD would retain certain requirements of AD 99-05-04. Since AD 99-05-04 was issued, the AD format has been revised, and certain paragraphs have been rearranged. As a result, the corresponding paragraph identifiers have changed in this proposed AD, as listed in the following table:

Revised Paragraph Identifiers
Requirement in AD 99-05-04 | Corresponding requirement in this proposed AD
Paragraph (a) | Paragraph (f).
Paragraph (b) | Paragraph (g).

In addition, all references to a “detailed visual inspection” have been changed to refer to a “detailed inspection.” A definition of detailed inspection is included in Note 1 of the proposed AD.

We have also removed the requirement in paragraph (c) of AD 99-05-04 to send a report of any cracked or failed rod end to the Manager, Atlanta Aircraft Certification Office, FAA. We no longer need this information from operators.

Interim Action

We consider this proposed AD interim action. If final action is later identified, we may consider further rulemaking then.

Costs of Compliance

The following table provides the estimated costs for U.S. operators to comply with this proposed AD.

Estimated Costs
Action | Work hours | Average labor rate per hour | Parts | Cost per airplane | Number of U.S.-registered airplanes | Fleet cost
Inspections (required by AD 99-05-04) | 1 | $65 | None | $65, per inspection cycle | 661 | $42,965, per inspection cycle.
Inspections (new proposed action for airplanes subject to EMBRAER Service Bulletin 145-27-0054) | 1 | 65 | None | $65, per inspection cycle | 661 | $42,965, per inspection cycle.
Replacing the PCA connecting fittings (new proposed action) | 24 | 65 | $19,817 | $21,377 | 661 | $14,130,197.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11087 (64 FR 13829, March 23, 1999) and adding the following new airworthiness directive (AD):

Empresa Brasileira De Aeronautica S.A. (EMBRAER): Docket No. FAA-2005-23145; Directorate Identifier 2000-NM-215-AD.

Comments Due Date

(a) The FAA must receive comments on this AD action by January 6, 2006.

Affected ADs

(b) This AD supersedes AD 99-05-04.

Applicability

(c) This AD applies to all EMBRAER Model EMB-145, -145ER, -145MR, -145LR, -145XR, -145MP, and -145EP airplanes, certificated in any category.

Unsafe Condition

(d) This AD results from the issuance of mandatory continuing airworthiness information by the Brazilian airworthiness authority. We are issuing this AD to detect and correct cracking or breaking of the rod ends and connecting fittings of the aileron power control actuator (PCA), which could result in reduced controllability of the airplane.

Compliance

(e) You are responsible for having the actions required by this AD performed within the compliance times specified, unless the actions have already been done.

Restatement of Certain Requirements of AD 99-05-04

Initial and Repetitive Inspections

(f) Within 24 hours (1 day) after March 29, 1999 (the effective date of AD 99-05-04), perform a detailed inspection to detect cracking or failure of the rod ends of the PCA at the aileron and wing connection points, in accordance with EMBRAER Alert Service Bulletin 145-27-A054, Change 01, dated February 17, 1999; or EMBRAER Service Bulletin 145-27-0054, Change 03, dated March 30, 2000, or Change 04, dated February 14, 2005. Repeat the inspection in accordance with the service bulletin thereafter at intervals not to exceed 3 days or 25 flight hours, whichever occurs later, until the initial inspection required by paragraph (h) of this AD is done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Actions

(g) If any cracked or failed rod end is detected during any inspection performed in accordance with paragraph (f) of this AD, prior to further flight, replace the aileron PCA with a new part having the same part number, in accordance with EMBRAER Alert Service Bulletin 145-27-A054, Change 01, dated February 17, 1999; or EMBRAER Service Bulletin 145-27-0062, Revision 03, dated December 11, 2002, or Revision 04, dated March 8, 2004. After the effective date of this AD replace the aileron PCA only with a new part that is listed in the “New P/N” column in section 2. “Material—Cost and Availability” of EMBRAER Service Bulletin 145-27-0062, Revision 03, dated December 11, 2002, or Revision 04, dated March 8, 2004. Do the replacement in accordance with the Accomplishment Instructions of the service bulletin. Where the service bulletin says to send parts to the parts manufacturer, that action is not required by this AD.

New Requirements of This AD

Repetitive Inspections

(h) At the applicable “Initial Inspection” compliance time in Table 1 of this AD: Do a general visual inspection to detect cracking or failure of the rod ends and connecting fittings in the left- and right-hand PCAs at the aileron and wing structure connection points, in accordance with Part I of the Accomplishment Instructions of EMBRAER Service Bulletin 145-27-0054, Change 03, dated March 30, 2000, or Change 04, dated February 14, 2005. Repeat the inspection at the applicable “Repeat” interval in Table 1 of this AD. Doing the initial inspection in accordance with paragraph (h) of this AD terminates the repetitive inspections in paragraph (f) of this AD.

Table 1.—Initial and Repetitive Inspection Intervals
For airplanes that have PCAs with part numbers (P/N)— | Do the initial inspection— | Repeat the inspection—
394900-1003, 394900-1005 | Within 3 days after the effective date of this AD | At intervals not to exceed 25 flight hours or 3 days, whichever occurs later.
394900-1007 | Within 14 days after the effective date of this AD | At intervals not to exceed 100 flight hours or 14 days, whichever occurs later.
418800-1001, 418800-1003, 418800-9003,418800-1005, 418800-9005, 418800-1007, or 418800-9007; and that have new reinforced PCA fittings installed in accordance with paragraph (k) or (l) of this AD | Within 500 flight hours after the effective date of this AD | At intervals not to exceed 500 flight hours.

Note 2: For the purposes of this AD, a general visual inspection is “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

No Cracked or Failed PCA Rod Ends or Connecting Fittings

(i) If no cracked or failed PCA rod end or connecting fitting is found during any inspection required by paragraph (h) of this AD: Repeat the inspection required by paragraph (h) of this AD at the applicable time specified in Table 1 of this AD.

Corrective Actions for Cracked or Failed Rod Ends

(j) If any cracked or failed rod end is found during any inspection required by paragraph (h) of this AD: Before further flight, replace the aileron PCA with a new part as listed in the “New P/N” column in section 2. “Material—Cost and Availability” of EMBRAER Service Bulletin 145-27-0062, Revision 03, dated December 11, 2002, or Revision 04, dated March 8, 2004. Do the replacement in accordance with the Accomplishment Instructions of the service bulletin. Where the service bulletin specifies to send parts to the parts manufacturer, that action is not required by this AD.

Corrective Actions for Cracked or Failed PCA Connecting Fittings

(k) If any cracked or failed PCA connecting fitting at the wing or aileron side is found during any inspection required by paragraph (h) of this AD: Before further flight, replace the PCA connecting fitting with a new, reinforced fitting, in accordance with Part I of the Accomplishment Instructions of EMBRAER Service Bulletin 145-57-0019, Change 02, dated May 3, 2001, or Change 03, dated February 11, 2004; and EMBRAER Service Bulletin 145-27-0061, Change 02, dated September 12, 2000, Change 03, dated March 14, 2001, or Revision 04, dated August 11, 2004.

PCA Connecting Fitting Replacement

(l) For airplanes with aileron PCAs with P/N 394900-1003, 394900-1005, 394900-1007, 418800-1001, 418800-1003, 418800-9003, 418800-1005, 418800-9005, 418800-1007, or 418800-9007: Except as required by paragraph (k) of this AD, at the applicable time in paragraphs (l)(1) and (l)(2) of this AD, replace the aileron PCA connecting fittings with new, reinforced fittings, in accordance with Part I of the Accomplishment Instructions of EMBRAER Service Bulletin 145-57-0019, Change 02, dated May 3, 2001, or Change 03, dated February 11, 2004; and Part I of the Accomplishment Instructions of EMBRAER Service Bulletin 145-27-0061, Change 02, dated September 12, 2000, Change 03, dated March 14, 2001, or Revision 04, dated August 11, 2004.

(1) For airplanes with PCAs with P/N 394900-1003, 394900-1005, or 394900-1007: At the later of the times in paragraphs (l)(1)(i) and (l)(1)(ii) of this AD.

(i) Before the airplane accumulates 6,000 total flight hours.

(ii) Within 3 days or 25 flight hours after the effective date of this AD, whichever occurs later.

(2) For airplanes with PCAs with P/N 418800-1001, 418800-1003, 418800-9003, 418800-1005, 418800-9005, 418800-1007, or 418800-9007: Before the airplane accumulates 6,000 total flight hours, or within 600 flight hours after the effective date of this AD, whichever occurs later.

(m) For airplanes with PCAs with P/N 418800-1001, 418800-1003, 418800-9003, 418800-1005, 418800-9005, 418800-1007, or 418800-9007: At the applicable time specified in Table 1 of this AD following the replacement specified in paragraph (l) of this AD, do a general visual inspection of the replaced part using a method approved by either the Manager, International Branch, ANM-116, Transport Airplane Directorate, FAA; or the Departmento de Aviacao Civil (or its delegated agent). Doing the inspections in accordance with EMBRAER EMB-145 Aircraft Maintenance Manual Task 27-12-01-212-002-A00, “Inspect (Visual Inspection) Aileron PCA Rod Ends/Fitting Lugs for Integrity and General Condition”, is one approved method. Thereafter, repeat the inspection at the applicable time specified in Table 1 of this AD.

Optional Terminating Action

(n) Airplanes that meet all conditions in paragraphs (n)(1), (n)(2), (n)(3), and (n)(4) of this AD are not subject to the requirements of paragraphs (f), (h), (i), (j), (k), (l), and (m) of this AD.

(1) The airplane is equipped with new aileron PCAs with P/N 418800-1001, 418800-1003, 418800-9003, 418800-1005, 418800-9005, 418800-1007, or 418800-9007.

(2) The airplane is equipped with new, reinforced PCA fittings installed in production or in accordance with the Accomplishment Instructions of EMBRAER Service Bulletin 145-57-0019, Change 02, dated May 3, 2001, or Change 03, dated February 11, 2004; and EMBRAER Service Bulletin 145-27-0061, Change 02, dated September 12, 2000, Change 03, dated March 14, 2001, or Revision 04, dated August 11, 2004; as applicable.

(3) The airplane is equipped with an aileron damper with P/N 41012130-103 or 41012130-104 that was installed in production or in accordance with the Accomplishment Instructions of any service bulletin listed in Table 2 of this AD.

Table 2.—Aileron Damper Installation Service Bulletins
EMBRAER service bulletin | Revision level | Date
145-27-0063 | Original | March 30, 2000.
145-27-0063 | Change 01 | October 2, 2000.
145-27-0063 | Change 02 | March 22, 2002.
145-27-0063 | Change 03 | May 27, 2004.
145-27-0063 | Revision 04 | October 13, 2004.
145-27-0063 | Revision 05 | March 16, 2005.

(4) The general visual inspections for structural integrity of the aileron PCA and the aileron damper terminals and fittings at the wing and aileron sides at intervals not exceeding 1,000 flight hours, established in the EMBRAER Model EMB-145 Maintenance Review Board document, are implemented.

Alternative Methods of Compliance (AMOCs)

(o)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) Alternative methods of compliance approved previously in accordance with AD 99-05-04 are approved as alternative methods of compliance with this AD.

Related Information

(p) Brazilian airworthiness directive 1999-02-01R6, dated June 21, 2004, also addresses the subject of this AD.

Issued in Renton, Washington, on November 1, 2005.
Ali Bahrami,
Manager, Transport Airplane Directorate, Aircraft Certification Service.

[FR Doc. 05-23702 Filed 12-6-05; 8:45 am]

BILLING CODE 4910-13-P